DEPARTMENT OF DEFENSE

Defense Acquisition Regulations System

48 CFR Part 201

RIN 0750-AF30

Defense Federal Acquisition Regulation Supplement; Contracting Officers' Representatives (DFARS Case 2005-D022)

AGENCY: Defense Acquisition Regulations System, Department of Defense (DoD).

ACTION: Final rule.

SUMMARY: DoD has issued a final rule amending the Defense Federal Acquisition Regulation Supplement (DFARS) to update text pertaining to the designation of a contracting officer's representative. The rule clarifies the authority of a contracting officer's representative and relocates text to the DFARS companion resource, Procedures, Guidance, and Information.

DATES: Effective Date: December 1, 2006.

FOR FURTHER INFORMATION CONTACT: Ms. Robin Schulze, Defense Acquisition Regulations System, OUSD(AT&L)DPAP(DARS), IMD 3C132, 3062 Defense Pentagon, Washington, DC 20301-3062. Telephone (703) 602-0326; facsimile (703) 602-0350. Please cite DFARS Case 2005-D022.

SUPPLEMENTARY INFORMATION:

A. Background

This final rule revises DFARS text addressing contracting officers' representatives. The DFARS changes—

• Clarify the authority of a contracting officer's representative; and

• Remove internal DoD procedures relating to the designation of a contracting officer's representative. Text on this subject has been relocated to the DFARS companion resource, Procedures, Guidance, and Information (PGI), available at http://www.acq.osd.mil/dpap/dars/pgi.

DoD published a proposed rule at 71 FR 27659 on May 12, 2006. One source submitted comments on the proposed rule. That source recommended revising the rule at 201.602-2(2)(v) to require that the contracting officer include a copy of the written designation of the contracting officer's representative in the official contract file. DoD agrees with the recommended requirement for file documentation, but, since this is an administrative matter internal to the Government, DoD has added the requirement to the corresponding text at PGI 201.602-2. DoD has adopted the proposed DFARS rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule addresses internal DoD procedural matters and makes no significant change to DoD contracting policy.

C. Paperwork Reduction Act

The Paperwork Reduction Act does not apply, because the rule does not impose any information collection requirements that require the approval of the Office of Management and Budget under 44 U.S.C. 3501, et seq.

List of Subjects in 48 CFR Part 201

Government procurement.

Michele P. Peterson,
Editor, Defense Acquisition Regulations System.

Therefore, 48 CFR part 201 is amended as follows:

PART 201—FEDERAL ACQUISITION REGULATIONS SYSTEM

1. The authority citation for 48 CFR part 201 continues to read as follows:

Authority: 41 U.S.C. 421 and 48 CFR Chapter 1.

2. Section 201.602-2 is revised to read as follows:

201.602-2 Responsibilities.

(1) Follow the procedures at PGI 201.602-2 regarding designation of a contracting officer's representative (COR).

(2) A COR—

(i) Must be a Government employee, unless otherwise authorized in agency regulations;

(ii) Must be qualified by training and experience commensurate with the responsibilities to be delegated in accordance with department/agency guidelines;

(iii) May not be delegated responsibility to perform functions at a contractor's location that have been delegated under FAR 42.202(a) to a contract administration office;

(iv) Has no authority to make any commitments or changes that affect price, quality, quantity, delivery, or other terms and conditions of the contract; and

(v) Must be designated in writing, and a copy furnished the contractor and the contract administration office—

(A) Specifying the extent of the COR's authority to act on behalf of the contracting officer;

(B) Identifying the limitations on the COR's authority;

(C) Specifying the period covered by the designation;

(D) Stating the authority is not redelegable; and

(E) Stating that the COR may be personally liable for unauthorized acts.

[FR Doc. E6-20393 Filed 11-30-06; 8:45 am]

BILLING CODE 5001-08-P